DEPARTMENT OF HOMELAND SECURITY

Federal Emergency Management Agency

[Docket ID FEMA-2007-0008]

National Advisory Council

AGENCY: Federal Emergency Management Agency, DHS.

ACTION: Committee management; request for applicants for appointment to the National Advisory Council.

SUMMARY: The Federal Emergency Management Agency (FEMA) is requesting individuals who are interested in serving on the National Advisory Council (NAC) to apply for appointment as identified in this notice. As provided for in the Post-Katrina Emergency Management Reform Act of 2006 (PKEMRA) (Pub. L. 109-295), the NAC shall advise the Administrator of FEMA on all aspects of emergency management. The NAC shall incorporate State, local and Tribal government, non-profit and private sector input in the development and revision of national emergency management doctrine, policy, and plans. The NAC consists of up to 35 members, all of whom are experts and leaders in their respective fields. FEMA seeks to appoint individuals to ten (10) positions on the NAC that are open due to vacancy or term expiration.

DATES: Applications and nominations will be accepted until 11:59 p.m. EST on March 14, 2014.

ADDRESSES: Applications for membership should be submitted by ONE of the following methods:

• E-Mail: FEMA-NAC@fema.dhs.gov.

• Fax: (540) 504-2331.

• Mail: Office of the National Advisory Council, Federal Emergency Management Agency, 8th Floor, 500 C Street SW., Washington, DC 20472-3100.

FOR FURTHER INFORMATION CONTACT: Alexandra Woodruff, Alternate Designated Federal Officer, The Office of the National Advisory Council, Federal Emergency Management Agency, 8th Floor, 500 C Street SW., Washington, DC 20472-3100; telephone (202) 646-2700; fax (540) 504-2331; and email FEMA-NAC@fema.dhs.gov. For more information on the NAC, please visit http://www.fema.gov/national-advisory-council.

SUPPLEMENTARY INFORMATION: The NAC is an advisory committee established in accordance with the provisions of the Federal Advisory Committee Act (FACA), 5 U.S.C. Appendix (Pub. L. 92-463). As required by PKEMRA, the Secretary of Homeland Security established the NAC to ensure effective and ongoing coordination of Federal preparedness, protection, response, recovery, and mitigation for natural disasters, acts of terrorism, and other man-made disasters. FEMA is requesting individuals who are interested in serving on the NAC to apply for appointment. One appointment for each discipline listed below (total of 10 appointments) will be open: Emergency Management (one representative appointment), Emergency Response (one representative appointment), Non-Elected Local Government Officials (one representative appointment), Health Scientist (one Special Government Employee appointment), Communications (one SGE appointment), Infrastructure Protection (one SGE appointment), Standards Setting and Accrediting (one representative appointment), Disabilities (one representative appointment), Elected Tribal Government Officials (one representative appointment) and Tribal Non-Elected Tribal Government Officials (one representative appointment). These appointments will be for three-year terms. The Administrator may appoint additional candidates to serve as FEMA Administrator Selections (either as a representative appointment or as a Special Government Employee (SGE)) for three-year terms.

Individuals interested in serving on the NAC are invited to apply for appointment by submitting an application package to the Office of the NAC as listed in the ADDRESSES section of this notice. There is no application form; however, each application package MUST include the following information:

• Cover letter, addressed to the Office of the NAC, detailing the discipline area(s) being applied for, current position title and organization, mailing address, a current telephone number and email address;

• Resume or Curriculum Vitae (CV); and

• Letters of Recommendation addressed to the Office of the NAC (if applicable—not required).

Incomplete applications will not be considered. Current NAC members whose terms are ending should notify the Office of the NAC of their interest in reappointment in lieu of submitting a new application, and if desired, provide updated application materials for consideration.

Each application will be scored based on the following criteria:

1. Demonstrated knowledge of Federal disasters and emergency response functions;

2. Demonstrated skill in working with high level officials and governments representing divergent points of view;

3. Experience coordinating and integrating activities with Federal, State, Local, Tribal or Territorial organizations and practitioner groups;

4. Proven leadership experience in specified discipline area(s) of interest;

5. Demonstrated knowledge of national emergency management policies and doctrine;

6. Demonstrated service on national, State, or Local task force, committee, or advisory body dealing with emergency preparedness and response;

7. Demonstrated experience in a senior management and leadership position, providing supervisory direction to an organization responsible for effective administration of complex policies and programs;

8. Demonstrated knowledge of and experience with the strategic planning process for an organization or a committee;

9. Proven ability to provide expert technical advice, guidance, and recommendations on critical program issues requiring new approaches, establishment of precedents or the interpretation of controversial law, regulation, or past practice; and

10. Demonstrated ability to communicate effectively orally and in writing.

Appointees may be designated as a SGE as defined in section 202(a) of title 18, United States Code, or as a Representative appointment. Candidates selected for appointment as SGEs are required to complete a Confidential Financial Disclosure Form (Office of Government Ethics (OGE) Form 450). This form can be obtained by visiting the Web site of the Office of Government Ethics (http://www.oge.gov), or by contacting the Office of the NAC. Please do not submit this form with your application. Contact information is provided in the FOR FURTHER INFORMATION CONTACT section of this notice.

The NAC will meet in person approximately two times a year. Members may be reimbursed for travel and per diem, and all travel for NAC business must be approved in advance by the Designated Federal Officer. NAC members are expected to serve on one of the three NAC Subcommittees, which regularly meet by teleconference throughout the year. The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions. Registered lobbyists, current FEMA employees, Disaster Assistance Employees, Reservists, Contractors, and potential Contractors will not be considered for membership.

Dated: February 6, 2014.
W. Craig Fugate,
Administrator, Federal Emergency Management Agency.

[FR Doc. 2014-03153 Filed 2-13-14; 8:45 am]

BILLING CODE 9111-48-P